DEPARTMENT OF COMMERCE

Foreign-Trade Zones Board

[B-53-2020]

Foreign-Trade Zone (FTZ) 82—Mobile, Alabama; Notification of Proposed Production Activity; Aker Solutions, Inc. (Subsea Oil and Gas Systems); Mobile, Alabama

Aker Solutions, Inc. (Aker) submitted a notification of proposed production activity to the FTZ Board for its facility in Mobile, Alabama. The notification conforming to the requirements of the regulations of the FTZ Board (15 CFR 400.22) was received on August 7, 2020.

Aker already has authority to produce undersea umbilicals (approved as Kvaerner Oilfield Products), flying leads (steel tube; hydraulic), cobra head terminations, various assemblies (umbilical termination; subsea distribution; mud mat), and various jumpers (integrated controls; hydraulic bridge) within FTZ 82. The current request would add a foreign-status material/component to the scope of authority. Pursuant to 15 CFR 400.14(b), additional FTZ authority would be limited to the specific foreign-status material/component described in the submitted notification (as described below) and subsequently authorized by the FTZ Board.

Production under FTZ procedures could exempt Aker from customs duty payments on the foreign-status material/component used in export production. On its domestic sales, for the foreign-status material/component noted below, Aker would be able to choose the duty rates during customs entry procedures that apply to the above listed finished products (duty rate ranges from duty-free to 3.7%). Aker would be able to avoid duty on foreign-status components which become scrap/waste. Customs duties also could possibly be deferred or reduced on foreign-status production equipment.

The material/component sourced from abroad is polymers of vinyl chloride (PVC) (duty rate 3.1%). The request indicates that the material/component is subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is September 28, 2020.

A copy of the notification will be available for public inspection in the “Reading Room” section of the Board's website, which is accessible via www.trade.gov/ftz.

For further information, contact Juanita Chen at juanita.chen@trade.gov or 202-482-1378.

Dated: August 12, 2020.
Andrew McGilvray,
Executive Secretary.

[FR Doc. 2020-17985 Filed 8-17-20; 8:45 am]

BILLING CODE 3510-DS-P